DEPARTMENT OF TRANSPORTATION

Federal Aviation Administration

14 CFR Part 39

[Docket No. FAA-2017-0813; Product Identifier 2017-NM-109-AD; Amendment 39-19059; AD 2017-20-02]

RIN 2120-AA64

Airworthiness Directives; Airbus Airplanes

AGENCY: Federal Aviation Administration (FAA), Department of Transportation (DOT).

ACTION: Final rule; request for comments.

SUMMARY: We are superseding Airworthiness Directive (AD) 2017-13-05, which applied to all Airbus Model A330-200, A330-300, A340-200, A340-300, A340-500, and A340-600 series airplanes. AD 2017-13-05 required an inspection, corrective actions if necessary, lubrication of the ball-nut, modification of the trimmable horizontal stabilizer actuator (THSA), and additional work for previously modified airplanes. For certain airplanes, AD 2017-13-05 required installation of an electronic harness, terminating actions, and a ball-screw assembly inspection. This AD clarifies the formatting of a figure in the published version of AD 2017-13-05. This AD was prompted by reports indicating that affected parties misinterpreted the intent of a figure as formatted in the published version of AD 2017-13-05, which could result in a negative effect on compliance. We are issuing this AD to address the unsafe condition on these products.

DATES: This AD is effective October 12, 2017.

The Director of the Federal Register approved the incorporation by reference of certain publications listed in this AD as of August 28, 2017 (82 FR 34251, July 24, 2017).

We must receive comments on this AD by November 13, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this final rule, contact Airbus, Airworthiness Office-EIAS, 1 Rond Point Maurice Bellonte, 31707 Blagnac Cedex, France; telephone: +33 5 61 93 36 96; fax: +33 5 61 93 44 51; email: account.airworth-eas@airbus.com; Internet: http://www.airbus.com.

You may view this referenced service information at the FAA, Transport Standards Branch, 1601 Lind Avenue SW., Renton, WA. For information on the availability of this material at the FAA, call 425-227-1221. It is also available on the Internet at http://www.regulations.gov by searching for and locating Docket No. FAA-2017-0813.

Examining the AD Docket

You may examine the AD docket on the Internet at http://www.regulations.gov by searching for and locating Docket No. FAA-2017-0813; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Vladimir Ulyanov, Aerospace Engineer, International Section, Transport Standards Branch, FAA, 1601 Lind Avenue SW., Renton, WA 98057-3356; telephone 425-227-1138; fax 425-227-1149.

SUPPLEMENTARY INFORMATION:

Discussion

On June 15, 2017, we issued AD 2017-13-05, Amendment 39-18935 (82 FR 34251, July 24, 2017) (“AD 2017-13-05”), which applied to all Airbus Model A330-200, A330-300, A340-200, A340-300, A340-500, and A340-600 series airplanes. AD 2017-13-05 was prompted by the need for a modification that automatically detects failure of the ball-screw assembly. AD 2017-13-05 required an inspection, corrective actions if necessary, lubrication of the ball-nut, modification of the trimmable horizontal stabilizer actuator (THSA), and additional work for previously modified airplanes. For certain airplanes, AD 2017-13-05 required installation of an electronic harness, terminating actions, and a ball-screw assembly inspection. We issued AD 2017-13-05 to detect and correct wear on the THSA, possibly resulting in damage to the ball-screw and fail-safe nut, which could jam the THSA and result in reduced control of the airplane.

Since we issued AD 2017-13-05, we have received reports indicating that affected parties could misinterpret the identity of applicable service information to use for the modification, due to the formatting of figure 2 to paragraphs (h) and (i) in the published version of AD 2017-13-05. Since the published figure could result in a negative effect on compliance, we have determined that clarification of the formatting of the published figure is necessary.

The European Aviation Safety Agency (EASA), which is the Technical Agent for the Member States of the European Union, has issued EASA AD 2014-0219, dated September 29, 2014 (referred to after this as the Mandatory Continuing Airworthiness Information, or “the MCAI”), to correct an unsafe condition for all Airbus Model A330 and Model A340 series airplanes. (Model A330-223F and A330-243F airplanes were removed from AD 2017-13-05 to correspond with the MCAI.) The EASA AD is referenced in AD 2017-13-05. EASA has not revised its AD since the issuance of AD 2017-13-05.

You may examine the MCAI in the AD docket on the Internet at http://www.regulations.gov by searching for and locating Docket No. FAA-2017-0813.

Related Service Information Under 1 CFR Part 51

Airbus has issued the following service information. The service bulletins having the same document number (but different revision levels) are distinct because each revision contains unique editorial changes.

The following service information describes procedures for doing repetitive inspections for integrity of the primary and secondary load paths of the ball-screw assembly of the THSA. These service bulletins are distinct because they apply to different airplane models.

• Airbus Service Bulletin A330-27-3102, Revision 09, dated March 29, 2016.

• Airbus Service Bulletin A340-27-4107, Revision 09, dated March 29, 2016.

The following service information describes procedures for installing two electrical detection devices, also called CSPs, on the lower attachment secondary load path of the THSA, and modifying the THSA. These service bulletins are distinct because they apply to different airplane models equipped with THSAs having different part numbers.

• Airbus Service Bulletin A330-27-3137, including Appendix 01, dated March 20, 2007.

• Airbus Service Bulletin A330-27-3137, Revision 01, including Appendix 1, dated December 6, 2007.

• Airbus Service Bulletin A330-27-3137, Revision 02, dated January 18, 2010.

• Airbus Service Bulletin A330-27-3143, Revision 01, dated July 10, 2012.

• Airbus Service Bulletin A340-27-4136, including Appendix 01, dated March 20, 2007.

• Airbus Service Bulletin A340-27-4136, Revision 01, including Appendix 1, dated December 6, 2007.

• Airbus Service Bulletin A340-27-4136, Revision 02, including Appendix 1, dated February 24, 2010.

• Airbus Service Bulletin A340-27-4143, dated February 21, 2012.

• Airbus Service Bulletin A340-27-5030, Revision 01, including Appendix 1, dated November 20, 2009.

The following service information describes procedures for installing electrical wiring harnesses and brackets to connect the secondary nut detection device to the monitoring systems. These service bulletins are distinct because they apply to different airplane models.

• Airbus Service Bulletin A330-92-3046, Revision 04, dated July 16, 2010.

• Airbus Service Bulletin A330-92-3046, Revision 05, dated November 7, 2011.

• Airbus Service Bulletin A330-92-3046, Revision 07, dated January 13, 2017.

• Airbus Service Bulletin A340-92-4056, Revision 03, dated July 16, 2010.

• Airbus Service Bulletin A340-92-4056, Revision 04, dated December 5, 2013.

• Airbus Service Bulletin A340-92-5008, Revision 07, dated February 8, 2013.

The following service information describes system equipment maintenance requirements (SEMR) that refer to preventative maintenance requirements found necessary to comply with safety objectives. These documents are distinct because they apply to different airplane models.

• Airbus A330 Airworthiness Limitations Section (ALS) Part 4—System Equipment Maintenance Requirements (SEMR), Revision 05, dated October 19, 2015.

• Airbus A340 Airworthiness Limitations Section (ALS) Part 4—System Equipment Maintenance Requirements (SEMR), Revision 04, dated October 19, 2015.

• Airbus A340 Airworthiness Limitations Section (ALS) Part 3—Certification Maintenance Requirements (CMR), Revision 03, dated October 19, 2015, describes CMRs that are system-related periodic tasks established during type certification.

This service information is reasonably available because the interested parties have access to it through their normal course of business or by the means identified in the ADDRESSES section.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

FAA's Justification and Determination of the Effective Date

We are superseding AD 2017-13-05 to clarify the formatting of a figure in the regulatory text of the published AD. No other changes have been made to AD 2017-13-05. Therefore, we determined that notice and opportunity for prior public comment are unnecessary.

Comments Invited

This AD is a final rule that involves requirements affecting flight safety, and we did not precede it by notice and opportunity for public comment. We invite you to send any written relevant data, views, or arguments about this AD. Send your comments to an address listed under the ADDRESSES section. Include “Docket No. FAA-2017-0813; Product Identifier 2017-NM-109-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 33 airplanes of U.S. registry. This AD adds no new economic burden to AD 2017-13-05.

We estimate that it takes about 68 work-hours per product to comply with the basic requirements of this AD. The average labor rate is $85 per work-hour. Required parts would cost about $17,481 per product. Based on these figures, we estimate the cost of this AD on U.S. operators to be $764,808, or $23,260 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2017-13-05, Amendment 39-18935 (82 FR 34251, July 24, 2017), and adding the following new AD:

2017-20-02 Airbus: Amendment 39-19059; Docket No. FAA-2017-0813; Product Identifier 2017-NM-109-AD.

(a) Effective Date

This AD is effective October 12, 2017.

(b) Affected ADs

This AD replaces AD 2017-13-05, Amendment 39-18935 (82 FR 34251, July 24, 2017) (“AD 2017-13-05”).

(c) Applicability

This AD applies to the airplanes identified in paragraphs (c)(1) and (c)(2) of this AD, certificated in any category.

(1) Airbus Model A330-201, -202, -203, -223, -243, -301, -302, -303, -321, -322, -323, -341, -342, and -343 airplanes, all manufacturer serial numbers.

(2) Airbus Model A340-211, -212, -213, -311, -312, -313, -541, and -642 airplanes, all manufacturer serial numbers.

(d) Subject

Air Transport Association (ATA) of America Code 27, Flight Controls.

(e) Reason

This AD was prompted by the need for a modification that automatically detects failure of the ball-screw assembly. We are issuing this AD to detect and correct wear on the trimmable horizontal stabilizer actuator (THSA), possibly resulting in damage to the ball-screw and fail-safe nut, which could jam the THSA and result in reduced control of the airplane.

(f) Compliance

Comply with this AD within the compliance times specified, unless already done.

(g) Retained Actions for Electronic Centralized Aircraft Monitor (ECAM) Fault Messages, With Revised FAA Contact Information

This paragraph restates the requirements of paragraph (g) of AD 2017-13-05, with revised FAA contact information. For airplanes other than those identified in figure 1 to paragraphs (g), (h), and (q) of this AD: If, during any flight, one of the “PRIM X PITCH FAULT” or “STAB CTL FAULT” messages is displayed on the ECAM associated with the “PITCH TRIM ACTR (1CS)” maintenance message, before further flight after each time the message is displayed on the ECAM, do the actions specified in paragraphs (g)(1) and (g)(2) of this AD.

(1) Do the applicable detailed inspection of the ball-screw assembly for integrity of the primary and secondary load path; check the checkable shear pins (CSP), if installed; and do all applicable corrective actions; as specified in paragraph (g)(1)(i), (g)(1)(ii), or (g)(1)(iii) of this AD. Do all applicable corrective actions before further flight.

(i) For Model A330 series airplanes: Do the actions in accordance with the Accomplishment Instructions of Airbus Service Bulletin A330-27-3102, Revision 09, dated March 29, 2016, except as required by paragraph (n)(1) of this AD.

(ii) For Model A340-200 and -300 series airplanes: Do the actions in accordance with the Accomplishment Instructions of Airbus Service Bulletin A340-27-4107, Revision 09, dated March 29, 2016, except as required by paragraph (n)(1) of this AD.

(iii) For Model A340-500 and -600 series airplanes: Do the actions using a method approved by the Manager, International Section, Transport Standards Branch, FAA; or the European Aviation Safety Agency (EASA); or Airbus's EASA Design Organization Approval (DOA).

Note 1 to paragraph (g)(1)(iii) of this AD: Guidance for the inspection of the ball-screw assembly can be found in Task 274000-B0002-1-C, Inspection of the ball-screw assembly for integrity of the primary and secondary load paths, of the Airbus A340 Airworthiness Limitations Section (ALS) Part 3—Certification Maintenance Requirements (CMR), Revision 03, dated October 19, 2015.

(2) Lubricate the THSA ball-nut in accordance with the applicable service information specified in paragraph (g)(2)(i), (g)(2)(ii), or (g)(2)(iii) of this AD.

(i) Task 274400-00002-1-E, Lubrication of the THSA ball-nut, of Airbus A330 ALS Part 4—System Equipment Maintenance Requirements (SEMR), Revision 05, dated October 19, 2015 (for Model A330 series airplanes).

(ii) Task 274400-00002-1-E, Lubrication of the THSA ball-nut, of Airbus A340 ALS Part 4—System Equipment Maintenance Requirements (SEMR), Revision 04, dated October 19, 2015 (for Model A340-200 and -300 series airplanes).

(iii) Task 274000-B0003-1-C, Lubrication of THS Actuator ball-screw nut, of Airbus A340 ALS Part 3—Certification Maintenance Requirements (CMR), Revision 03, dated October 19, 2015 (for Model A340-500 and -600 series airplanes).

BILLING CODE 4910-13-C

(h) Retained Installation of CSP and Electrical Harness, With No Changes

This paragraph restates the requirements of paragraph (h) of AD 2017-13-05, with no changes. For all airplanes, except Group 2 airplanes specified in figure 1 to paragraphs (g), (h), and (q) of this AD, and except for airplanes identified in paragraphs (i), (j), and (n)(2) of this AD: Within 12 months after August 28, 2017 (the effective date of AD 2017-13-05), modify the airplane by installing a CSP on the THSA and an additional electrical harness, in accordance with the Accomplishment Instructions of the Airbus service information specified in figure 2 to paragraphs (h) and (i) of this AD, as applicable to the part number of the THSA installed on the airplane, except as provided by paragraph (n)(2) of this AD.

BILLING CODE 4910-13-C

(i) Retained “Additional Work” on Previously Modified Airplanes, With No Changes

This paragraph restates the requirements of paragraph (i) of AD 2017-13-05, with no changes. For airplanes that have already been modified (installation of CSP on the THSA and electrical harness) before August 28, 2017 (the effective date of AD 2017-13-05), in accordance with the Accomplishment Instructions of any previous revision of an Airbus service bulletin specified in figure 2 to paragraphs (h) and (i) of this AD, as applicable: Within 12 months after August 28, 2017, do the “Additional Work” specified in, and in accordance with, the Accomplishment Instructions of the applicable Airbus service information specified in figure 2 to paragraphs (h) and (i) of this AD.

(j) Retained Installation of Electrical Harness on Airplanes Equipped with a CSP, With No Changes

This paragraph restates the requirements of paragraph (j) of AD 2017-13-05, with no changes. For airplanes having one of the THSAs installed with a part number listed in figure 3 to paragraph (j) of this AD, and that have been modified by installing a CSP on the THSA as required by paragraph (h) of this AD: Within 12 months after August 28, 2017 (the effective date of AD 2017-13-05), inspect to determine if the electrical harness identified in the applicable Airbus service information specified in figure 3 to paragraph (j) of this AD is installed on the airplane, and, if not installed, modify the airplane by installing an electrical harness, in accordance with the Accomplishment Instructions of the Airbus service information specified in figure 3 to paragraph (j) of this AD, as applicable to the part number of the THSA installed on the airplane. Airplanes having one of the THSAs installed with a part number listed in figure 3 to paragraph (j) of this AD already have the CSP installed on the THSA, and only the electrical harness must be installed on the airplane.

(k) Retained Provisions for Terminating Action for Repetitive Inspections of Airbus Model A330-200 and -300 Series Airplanes, With No Changes

This paragraph restates the provisions of paragraph (k) of AD 2017-13-05, with no changes. Accomplishment of a modification before August 28, 2017 (the effective date of AD 2017-13-05), using the Accomplishment Instructions of Airbus Service Bulletin A330-27-3137, including Appendix 01, dated March 20, 2007; or Revision 01, including Appendix 1, dated December 6, 2007; and Airbus Service Bulletin A330-92-3046, Revision 04, dated July 16, 2010; or Revision 05, dated November 7, 2011; or Revision 06, dated November 15, 2013; terminates the repetitive inspections specified in paragraphs (k)(1) through (k)(4) of this AD. Modification of an airplane as specified by this paragraph does not constitute terminating action for the actions specified in paragraph (g)(2) of this AD or the additional work specified in paragraph (i) of this AD.

(1) Task 274400-00001-1-E, Detailed inspection of the ball-screw assembly for integrity of the primary and secondary load path and check the gap at the secondary nut trunnion, of Airbus A330 ALS Part 4—System Equipment Maintenance Requirements (SEMR), Revision 05, dated October 19, 2015.

(2) Task 274400-00001-2-E, Detailed inspection of the ball-screw assembly for integrity of the primary and secondary load path and check the CSPs, of Airbus A330 ALS Part 4—System Equipment Maintenance Requirements (SEMR), Revision 05, dated October 19, 2015.

(3) Task 274400-00001-3-E, Detailed inspection of the ball-screw assembly for integrity of the primary and secondary load path and check the CSPs, of Airbus A330 ALS Part 4—System Equipment Maintenance Requirements (SEMR), Revision 05, dated October 19, 2015.

(4) Task 274400-00001-4-E, Detailed inspection of the ball-screw assembly for integrity of the primary and secondary load path and check the CSPs, of Airbus A330 ALS Part 4—System Equipment Maintenance Requirements (SEMR), Revision 05, dated October 19, 2015.

(l) Retained Provisions for Terminating Action for Repetitive Inspections of Airbus Model A340-200 and -300 Series Airplanes, With No Changes

This paragraph restates the provisions of paragraph (l) of AD 2017-13-05, with no changes. Accomplishment of a modification in accordance with the Accomplishment Instructions of Airbus Service Bulletin A340-27-4143, dated February 21, 2012; and Airbus Service Bulletin A340-92-4056, Revision 03, dated July 16, 2010; terminates the actions required by paragraph (g)(1) of this AD for modified Airbus Model A340-200 and -300 series airplanes only. Modification of an airplane as specified in this paragraph does not constitute terminating action for the actions specified in paragraph (g)(2) of this AD, or the additional work specified in paragraph (i) of this AD.

(m) Retained Provisions for Terminating Action for Repetitive Inspections of Airbus Model A340-200 and -300 Series Airplanes, With No Changes

This paragraph restates the provisions of paragraph (m) of AD 2017-13-05, with no changes. Accomplishment of a modification before August 28, 2017 (the effective date of AD 2017-13-05), using the Accomplishment Instructions of Airbus Service Bulletin A340-27-4136, including Appendix 01, dated March 20, 2007; or Revision 01, including Appendix 1, dated December 6, 2007; and Airbus Service Bulletin A340-92-4056, Revision 03, dated July 16, 2010; terminates the repetitive inspections specified in paragraphs (m)(1) through (m)(4) of this AD. Modification of an airplane as specified in this paragraph does not constitute terminating action for the actions specified in paragraph (g)(2) of this AD, or the additional work specified in paragraph (i) of this AD.

(1) Task 274400-00001-1-E, Detailed inspection of the ball-screw assembly for integrity of the primary and secondary load path and gap check at the secondary nut trunnion, of Airbus A340 ALS Part 4—System Equipment Maintenance Requirements (SEMR), Revision 04, dated October 19, 2015.

(2) Task 274400-00001-2-E, Detailed inspection of the ball-screw assembly for integrity of the primary and secondary load path and CSP check, of Airbus A340 ALS Part 4—System Equipment Maintenance Requirements (SEMR), Revision 04, dated October 19, 2015.

(3) Task 274400-00001-3-E, Detailed inspection of the ball-screw assembly for integrity of the primary and secondary load path and CSP check, of Airbus A340 ALS Part 4—System Equipment Maintenance Requirements (SEMR), Revision 04, dated October 19, 2015.

(4) Task 274400-00001-4-E, Detailed inspection of the ball-screw assembly for integrity of the primary and secondary load path and CSP check, of A340 ALS Part 4—System Equipment Maintenance Requirements (SEMR), Revision 04, dated October 19, 2015.

(n) Retained Exceptions to the Actions in Certain Service Information and Paragraph (h) of This AD, With No Changes

This paragraph restates the exceptions of paragraph (n) of AD 2017-13-05, with no changes.

(1) Where Airbus Service Bulletin A330-27-3102, Revision 09, dated March 29, 2016 (for Model A330 series airplanes); or Airbus Service Bulletin A340-27-4107, Revision 09, dated March 29, 2016 (for Model A340 series airplanes); specifies to contact Airbus for a damage assessment: Before further flight, accomplish the required actions in accordance with the procedures specified in paragraph (s)(2) of this AD.

(2) For airplanes that already had the electrical harness installed during production using Airbus Modifications 52269 and 56056 for Airbus Model A330-200 and -300 series airplanes and Airbus Model A340-200 and -300 series airplanes, and using Airbus Modifications 52191 and 56058 for Model A340-500 and -600 series airplanes: Only the CSP must be installed on the THSA in accordance with applicable Airbus service bulletins and within the compliance time specified in paragraph (h) of this AD.

(o) Retained Provisions for Terminating Action for Repetitive Inspections for Airplanes on Which Actions Required by Paragraph (h), (i), or (j) of This AD Are Done, With No Changes

This paragraph restates the provisions of paragraph (o) of AD 2017-13-05, with no changes. Modification of an airplane as required by paragraph (h), (i), or (j) of this AD, as applicable, constitutes terminating action for that airplane for the applicable actions identified in paragraphs (o)(1) through (o)(4) of this AD.

(1) For all airplanes: The actions required by paragraph (g) of this AD.

(2) For Model A340-500 and -600 series airplanes: Task 274000-B0002-1-C, Inspection of the ball-screw assembly for integrity of the primary and secondary load paths, of Airbus A340 ALS Part 3—Certification Maintenance Requirements (CMR), Revision 03, dated October 19, 2015.

(3) For Model A330-200 and -300 series airplanes: The ALS tasks identified in paragraphs (k)(1) through (k)(4) of this AD.

(4) For Model A340-200 and -300 series airplanes: The ALS tasks identified in paragraphs (m)(1) through (m)(4) of this AD.

(p) Retained Ball-screw Assembly Inspection for Certain Airplanes, With Revised FAA Contact Information

This paragraph restates the requirements of paragraph (p) of AD 2017-13-05, with revised FAA contact information. For Model A340-500 and -600 airplanes that are in post-Airbus Service Bulletin A340-92-5008, at Revision 06 or earlier, configuration: Before exceeding the threshold or interval, as applicable, of Task 274000-B0002-1-C, Inspection of the ball-screw assembly for integrity of the primary and secondary load paths, of Airbus A340 ALS Part 3—Certification Maintenance Requirements (CMR), Revision 03, dated October 19, 2015, or within 3 months after August 28, 2017 (the effective date of AD 2017-13-05), whichever occurs later, accomplish Task 274000-B0002-1-C, Inspection of the ball-screw assembly for integrity of the primary and secondary load paths, of Airbus A340 ALS Part 3—Certification Maintenance Requirements (CMR), Revision 03, dated October 19, 2015; and do all applicable corrective actions. Do all applicable corrective actions before further flight using a method approved by the Manager, International Section, Transport Standards Branch, FAA; or EASA; or Airbus's EASA DOA. Repeat Task 274000-B0002-1-C, Inspection of the ball-screw assembly for integrity of the primary and secondary load paths, thereafter at the applicable intervals specified in Airbus A340 ALS Part 3—Certification Maintenance Requirements (CMR), Revision 03, dated October 19, 2015.

(q) Retained Parts Installation Prohibitions, With No Changes

This paragraph restates the requirements of paragraph (1) of AD 2017-13-05, with no changes.

(1) For all airplanes except Group 2 airplanes as identified in figure 1 to paragraphs (g), (h), and (q) of this AD: After modification of the airplane as required by paragraph (h), (i), or (j) of this AD, as applicable, no person may install any THSA having part number (P/N) 47172-300, P/N 47147-500, P/N 47175-200, or P/N 47175-300.

(2) For Group 2 airplanes, as identified in figure 1 to paragraphs (g), (h), and (q) of this AD: As of August 28, 2017 (the effective date of AD 2017-13-05), no person may install on any Group 2 airplane any THSA having P/N 47172-300, P/N 47147-500, P/N 47175-200, or P/N 47175-300.

(r) Retained Credit for Previous Actions, With No Changes

This paragraph restates the provisions of paragraph (r) of AD 2017-13-05, with no changes.

(1) This paragraph provides credit for actions required by paragraph (g)(2) of this AD, if those actions were performed before August 28, 2017 (the effective date of AD 2017-13-05), using the applicable service information specified in paragraphs (r)(1)(i) through (r)(1)(iv) of this AD.

(i) Task 274400-00002-1-E, Lubrication of the THSA ball-nut, of Airbus A330 ALS Part 4—Ageing Systems Maintenance, Revision 03, dated September 9, 2011 (for Model A330 series airplanes).

(ii) Task 274400-00002-1-E, Lubrication of the THSA ball-nut, of Airbus A330 ALS Part 4—Ageing Systems Maintenance, Revision 04, dated August 27, 2013 (for Model A330 series airplanes).

(iii) Task 274400-00002-1-E, Lubrication of the THSA ball-nut, of Airbus A340 ALS Part 4—Ageing Systems Maintenance, Revision 02, dated October 12, 2011 (for Model A340-200 and -300 series airplanes).

(iv) Task 274400-00002-1-E, Lubrication of the THSA ball-nut, of Airbus A340 ALS Part 4—Ageing Systems Maintenance, Revision 03, dated November 15, 2012 (for Model A340-200 and -300 series airplanes).

(2) This paragraph provides credit for the electrical harness installation required by paragraph (h) of this AD and the inspection and electrical harness installation required by paragraph (j) of this AD, if those actions were performed before August 28, 2017 (the effective date of AD 2017-13-05), using Airbus Service Bulletin A330-92-3046, Revision 06, dated November 15, 2013.

(s) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the manager of the International Section, send it to the attention of the person identified in paragraph (t)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or EASA; or Airbus's EASA DOA. If approved by the DOA, the approval must include the DOA-authorized signature.

(t) Related Information

(1) Refer to Mandatory Continuing Airworthiness Information (MCAI) EASA Airworthiness Directive 2014-0219, dated September 29, 2014, for related information. You may examine the MCAI on the Internet at http://www.regulations.gov by searching for and locating Docket No. FAA-2017-0813.

(2) For more information about this AD, contact Vladimir Ulyanov, Aerospace Engineer, International Section, Transport Standards Branch, FAA, 1601 Lind Avenue SW., Renton, WA 98057-3356; telephone 425-227-1138; fax 425-227-1149.

(3) Service information identified in this AD that is not incorporated by reference is available at the addresses specified in paragraphs (u)(4) and (u)(5) of this AD.

(u) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on August 28, 2017 (82 FR 34251, July 24, 2017).

(i) Airbus A330 Airworthiness Limitations Section (ALS) Part 4—System Equipment Maintenance Requirements (SEMR), Revision 05, dated October 19, 2015.

(ii) Airbus A340 Airworthiness Limitations Section (ALS) Part 3—Certification Maintenance Requirements (CMR), Revision 03, dated October 19, 2015.

(iii) Airbus A340 Airworthiness Limitations Section (ALS) Part 4—System Equipment Maintenance Requirements (SEMR), Revision 04, dated October 19, 2015.

(iv) Airbus Service Bulletin A330-27-3102, Revision 09, dated March 29, 2016.

(v) Airbus Service Bulletin A330-27-3137, including Appendix 01, dated March 20, 2007.

(vi) Airbus Service Bulletin A330-27-3137, Revision 01, including Appendix 1, dated December 6, 2007.

(vii) Airbus Service Bulletin A330-27-3137, Revision 02, dated January 18, 2010.

(viii) Airbus Service Bulletin A330-27-3143, Revision 01, dated July 10, 2012.

(ix) Airbus Service Bulletin A330-92-3046, Revision 04, dated July 16, 2010.

(x) Airbus Service Bulletin A330-92-3046, Revision 05, dated November 7, 2011.

(xi) Airbus Service Bulletin A330-92-3046, Revision 07, dated January 13, 2017.

(xii) Airbus Service Bulletin A340-27-4107, Revision 09, dated March 29, 2016.

(xiii) Airbus Service Bulletin A340-27-4136, including Appendix 01, dated March 20, 2007.

(xiv) Airbus Service Bulletin A340-27-4136, Revision 01, including Appendix 1, dated December 6, 2007.

(xv) Airbus Service Bulletin A340-27-4136, Revision 02, including Appendix 1, dated February 24, 2010.

(xvi) Airbus Service Bulletin A340-27-4143, dated February 21, 2012.

(xvii) Airbus Service Bulletin A340-27-5030, Revision 01, including Appendix 1, dated November 20, 2009.

(xviii) Airbus Service Bulletin A340-92-4056, Revision 03, dated July 16, 2010.

(xix) Airbus Service Bulletin A340-92-4056, Revision 04, dated December 5, 2013.

(xx) Airbus Service Bulletin A340-92-5008, Revision 07, dated February 8, 2013.

(4) For service information identified in this AD, contact Airbus, Airworthiness Office- EIAS, 1 Rond Point Maurice Bellonte, 31707 Blagnac Cedex, France; telephone: +33 5 61 93 36 96; fax: +33 5 61 93 44 51; email: account.airworth-eas@airbus.com; Internet: http://www.airbus.com.

(5) You may view this service information at the FAA, Transport Standards Branch, 1601 Lind Avenue SW., Renton, WA. For information on the availability of this material at the FAA, call 425-227-1221.

(6) You may view this service information that is incorporated by reference at the National Archives and Records Administration (NARA). For information on the availability of this material at NARA, call 202-741-6030, or go to http://www.archives.gov/federal-register/cfr/ibr-locations.html.

Issued in Renton, Washington, on September 14, 2017.
Jeffrey E. Duven,
Director, System Oversight Division, Aircraft Certification Service.

[FR Doc. 2017-20559 Filed 9-26-17; 8:45 am]

BILLING CODE 4910-13-P